DEPARTMENT OF TRANSPORTATION

Federal Aviation Administration

Public Notice for a Change in Use of Aeronautical Property at Concord Municipal Airport, Concord, NH

AGENCY: Federal Aviation Administration (FAA), DOT.

ACTION: Request for public comments.

SUMMARY: The FAA is requesting public comment on the City of Concord, New Hampshire's request to change a portion (29.22 acres) of Airport property from aeronautical use to non-aeronautical use. The property is located off Chennell Drive in the approach to Runway 30 in Concord, New Hampshire and is currently undeveloped. The terrain and location of the parcel does not allow the property to be used for aviation development. Upon disposition the property will be used as a multi-use business park. There were no Federal funds used in the acquisition of this property. A navigation easement will be retained by the City.

The disposition of proceeds from the disposal of airport property will be in accordance with FAA's Policy and Procedures Concerning the Use of Airport Revenue, published in the Federal Register on February 16, 1999.

DATES: Comments must be received on or before September 29, 2004.

ADDRESSES: Documents are available for review by appointment by contacting Mr. Kenneth Lurvey, Business Development Coordinator, City Hall, 41 Green Street, Concord, NH 03301, Telephone (603) 225-8595 and by contacting Donna R. Witte, Federal Aviation Administration, 16 New England Executive Park, Burlington, Massachusetts, Telephone (781) 238-7624.

FOR FURTHER INFORMATION CONTACT: Donna R. Witte at the Federal Aviation Administration, 12 New England Executive Park, Burlington, Massachusetts 01803, Telephone (781) 238-7624.

SUPPLEMENTARY INFORMATION: Section 125 of The Wendell H. Ford Aviation Investment and Reform Act for the 21st Century (AIR 21) requires the FAA to provide an opportunity for public notice and comment to the “waiver” or “modification” of a sponsor's Federal obligation to use certain airport property for aeronautical purposes.

Issued in Burlington, Massachusetts on August 18, 2004.
Vincent A. Scarano,
Manager, Airports Division, New England Region.

[FR Doc. 04-19737 Filed 8-27-04; 8:45 am]

BILLING CODE 4910-13-M